DEPARTMENT OF DEFENSE

Department of the Army

Availability for Non-Exclusive, Exclusive, or Partially Exclusive Licensing of U.S. Patent Application Concerning Method for Detecting Clostridium Botulinum Neurotoxin Serotypes, A, B, E and F in a Sample

AGENCY: Department of the Army, DOD.

ACTION: Notice.

SUMMARY: In accordance with 37 CFR 404.6 and 404.7, announcement is made of the availability for licensing of U.S. Patent Application No. 09/952,078 entitled “Method for Detecting Clostridium Botulinum Neurotoxin Serotypes A, B, E and F in a Sample,” filed September 14, 2001. Foreign rights (PCT/US01/28641) are also available. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Sensitive and specific enzyme-linked immunosorbent assays which detect Clostridium botulinum neurotoxins serotypes A, B, E, and F in a sample are described. The assay is based upon affinity-purified antibodies directed against the C-fragments of each toxin. These assays demonstrate sensitivity close to that of the mouse bioassay without the use of animals and in a much simpler format than other assays of similar sensitivity.

Luz D. Ortiz,
Army Federal Register Liaison Officer.

[FR Doc. 02-23853 Filed 9-19-02; 8:45 am]

BILLING CODE 3710-08-M